DEPARTMENT OF HEALTH AND HUMAN SERVICES

National Institutes of Health

National Heart, Lung, and Blood Institute; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Heart, Lung, and Blood Institute Special Emphasis Panel Systolic Blood Pressure Intervention Trial Coordinating Center.

Date: September 24, 2008.

Time: 8:30 a.m. to 2 p.m.

Agenda: To review and evaluate contract proposals.

Place: Hilton Washington, DC, Rockville Executive Meeting Center, 1750 Rockville Pike, Rockville, MD 20852.

Contact Person: Tony L. Creazzo, PhD, Scientific Review Administrator, Review Branch/DERA, National Heart, Lung, and Blood Institute, 6701 Rockledge Drive, Room 7180, Bethesda, MD 20892-7924, 301-435-0725, creazzot@mail.nih.gov.

Name of Committee: National Heart, Lung, and Blood Institute, Special Emphasis Panel, Research Project in Cardiovascular Disease.

Date: September 24, 2008.

Time: 1 p.m. to 4 p.m.

Agenda: To review and evaluate grant applications.

Place: National Institutes of Health, 6701 Rockledge Drive, Bethesda, MD 20892 (Telephone Conference Call).

Contact Person: Youngsuk Oh, PhD, Scientific Review Administrator, Review Branch/DERA, National Heart, Lung, and Blood Institute, 6701 Rockledge Drive, Room 7182, Bethesda, MD 20892-7924, 301-435-0277, yoh@mail.nih.gov.

Name of Committee: National Heart, Lung, and Blood Institute, Special Emphasis Panel, Systolic Blood Pressure Intervention Trial Clinical Center.

Date: September 24-25, 2008.

Time: September 24, 2008, 7 p.m. to 10 p.m.

Agenda: To review and evaluate contract proposals.

Place: Hilton Washington, DC, Rockville Executive Meeting Center, 1750 Rockville Pike, Rockville, MD 20852.

Time: September 25, 2008, 8 a.m. to 3 p.m.

Agenda: To review and evaluate contract proposals.

Place: Hilton Washington, DC, Rockville Executive Meeting Center, 1750 Rockville Pike, Rockville, MD 20852.

Contact Person: Tony L. Creazzo, PhD, Scientific Review Administrator, Review Branch/DERA, National Heart, Lung, and Blood Institute, 6701 Rockledge Drive, Room 7180, Bethesda, MD 20892-7924, 301-435-0725, creazzot@mail.nih.gov.

(Catalogue of Federal Domestic Assistance Program Nos. 93.233, National Center for Sleep Disorders Research; 93.837, Heart and Vascular Diseases Research; 93.838, Lung Diseases Research; 93.839, Blood Diseases and Resources Research, National Institutes of Health, HHS)

Dated: August 25, 2008.
Jennifer Spaeth,
Director, Office of Federal Advisory Committee Policy.

[FR Doc. E8-20191 Filed 9-2-08; 8:45 am]

BILLING CODE 4140-01-M